DEPARTMENT OF THE TREASURY

Agency Information Collection Activities; Proposed Collection; Comment Request; The Community Development Financial Institutions (CDFI)

AGENCY: Departmental Offices, Department of the Treasury.

ACTION: Notice of information collection; request for comment.

SUMMARY: The Department of the Treasury, as part of its continuing effort to reduce paperwork and respondent burden, invites the general public and other federal agencies to comment on the proposed information collections listed below, in accordance with the Paperwork Reduction Act of 1995.

DATES: Comments should be received on or before March 31, 2025 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION:

Community Development Financial Institution (CDFI)

Title: Bond Guarantee Program.

OMB Control Number: 1559-0044.

Forms: BG Program Information Collections—(1) Qualified Issuer Application, (2) Guarantee Application, (3) Secondary Loan Requirements Certification, (4) Financial Condition Monitoring Report, (5) Pledged Loan Monitoring Report, (6) Tertiary Loan Monitoring Report, (7) Annual Assessment Report, and (8) Secondary Loan Commitment Form.

Abstract: The purpose of the Community Development Financial Institutions (CDFI) Bond Guarantee Program (BG Program) is to support CDFI lending by providing Guarantees for Bonds issued by Qualified Issuers as part of a Bond Issue for Eligible Community or Economic Development Purposes. The BG Program provides CDFIs with a source of long-term capital and further the mission of the CDFI Fund to increase economic opportunity and promote community development investments for underserved populations and distressed communities in the United States. The CDFI Fund achieves its mission by promoting access to capital and local economic growth by investing in, supporting, and training Community Development Financial Institutions (CDFIs). The operation of the BG Program is supported by the collection of information across various forms, collectively the BG Program Information Collections: (1) Qualified Issuer Application, (2) Guarantee Application, (3) Secondary Loan Requirements Certification, (4) Financial Condition Monitoring Report, (5) Pledged Loan Monitoring Report, (6) Tertiary Loan Monitoring Report, (7) Annual Assessment Report, and (8) Secondary Loan Commitment Form. There are no significant content changes to the forms; however, minor, non-substantive changes may have been made to certain forms in order to improve the clarity and/or accuracy of the data collections.

Copies of the forms constituting the BG Program Information Collection may be found on the CDFI Fund's website at https://www.cdfifund.gov.

Current Actions: Extension without change of currently approved collection.

Type of Review: Regular.

Affected Public: Approved Eligible CDFIs and Qualified Issuers (QI).

All Forms—Estimated Reporting Burden
Form | Number of respondents | Number of responses per respondent | Number of annual responses | Hours per response | Number of hours annually
Bond Guarantee Program Application Materials | 20 | 1 | 20 | 80 | 1,600
Financial Condition Monitoring (FCM) Report | 40 | 4 | 160 | 1.66 | 280
Pledged Loan Monitoring (PLM) Report | 40 | 12 | 480 | 1.66 | 840
Tertiary Loan Monitoring (TLM) Report | 15 | 12 | 180 | 1.66 | 300
Annual Assessment | 40 | 1 | 40 | 2 | 80
Secondary Loan Commitment Form and Certification | 40 | 1 | 40 | 3.14 | 130
Total |  |  | 920 |  | 3,230

Authority: 44 U.S.C. 3501 et seq.

Melody Braswell,
Treasury PRA Clearance Officer.

[FR Doc. 2025-03307 Filed 2-27-25; 8:45 am]

BILLING CODE 4810-70-P